DEPARTMENT OF ENERGY

Federal Energy Regulatory Commission

18 CFR Part 35

[Docket No. RM13-2-000]

Small Generator Interconnection Agreements and Procedures

AGENCY: Federal Energy Regulatory Commission.

ACTION: Notice of Proposed Rulemaking; correction.

SUMMARY: This document contains corrections to the proposed rule (RM13-2-000) which was published in the Federal Register of Friday, February 1, 2013 (78 FR 7524). The regulations revised the pro forma Small Generator Interconnection Procedures (SGIP) and pro forma Small Generator Interconnection Agreement (SGIA) originally set forth in Order No. 2006.

DATES: Effective on [June 3, 2013].

FOR FURTHER INFORMATION CONTACT:

Leslie Kerr (Technical Information), Office of Energy Policy and Innovation, Federal Energy Regulatory Commission, 888 First Street NE., Washington, DC 20426, (202) 502-8540, Leslie.Kerr@ferc.gov.

Monica Taba (Technical Information), Office of Electric Reliability, Federal Energy Regulatory Commission, 888 First Street NE., Washington, DC 20426, (202) 502-6789, Monica.Taba@ferc.gov.

Elizabeth Arnold (Legal Information), Office of the General Counsel, Federal Energy Regulatory Commission, 888 First Street NE., Washington, DC 20426, (202) 502-8687, Elizabeth.Arnold@ferc.gov.

SUPPLEMENTARY INFORMATION:

Errata Notice

On January 17, 2013, the Commission issued an order in the above-referenced docket. Small Generator Interconnection Agreements and Procedures, 142 FERC ¶ 61,049 (2013). The order is revised as follows:

The fourth sentence of paragraph 45 should read, “This requirement was included in Order No. 2006 ⁶² but was not made clear in the pro forma SGIP.”

Footnote 62 should read, “Order No. 2006, FERC Stats. & Regs. ¶ 31,180 at P 140.”

In FR Doc. 2013-01366 appearing on page 7523 in the Federal Register of Friday, February 1, 2013, the same corrections are made:

1. On page 7531, the fourth sentence of paragraph 45 should read, “This requirement was included in Order No. 2006 ⁶² but was not made clear in the pro forma SGIP.”

2. On page 7531, Footnote 62 should read, “Order No. 2006, FERC Stats. & Regs. ¶ 31,180 at P 140.”

Dated: April 25, 2013.
Kimberly D. Bose,
Secretary.

[FR Doc. 2013-12079 Filed 5-20-13; 8:45 am]

BILLING CODE 6717-01-P